FEDERAL EMERGENCY MANAGEMENT AGENCY

[FEMA-1292-DR]

North Carolina; Amendment No. 6 to Notice of a Major Disaster Declaration

AGENCY: Federal Emergency Management Agency (FEMA).

ACTION: Notice.

SUMMARY: This notice amends the notice of a major disaster for the State of North Carolina (FEMA-1292-DR), dated September 16, 1999, and related determinations.

EFFECTIVE DATE: September 29, 2000.

FOR FURTHER INFORMATION CONTACT: Madge Dale, Response and Recovery Directorate, Federal Emergency Management Agency, Washington, DC 20472, (202) 646-3772.

SUPPLEMENTARY INFORMATION: Notice is hereby given that, in a letter dated September 29, 2000, the President amended the cost-sharing arrangements concerning Federal funds provided under the authority of the Robert T. Stafford Disaster Relief and Emergency Assistance Act (42 U.S.C. 51521 et seq.), in a letter to James L. Witt, Director of the Federal Emergency Management Agency, as follows:

I have determined that the damage in North Carolina resulting from Hurricane Floyd beginning on September 15, 1999, and continuing through November 2, 1999, is of sufficient severity and magnitude that special conditions are warranted regarding the cost-sharing arrangements concerning Federal funds provided under the Robert T. Stafford Disaster Relief and Emergency Assistance Act, 42 U.S.C. 5121 et seq. (the Stafford Act).

Therefore, I amend my previous declaration to authorize Federal funds for Public Assistance at 90 percent of total eligible costs.

This adjustment to State and local cost sharing applies only to Public Assistance costs eligible for such adjustment under the law. The law specifically prohibits a similar adjustment for funds provided to the State for the Individual and Family Grant program, mobile home group site development under Section 408, Temporary Housing, and Hazard Mitigation Assistance. These funds will continue to be reimbursed at 75 percent of total eligible costs.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
James L. Witt,
Director.

[FR Doc. 00-26531 Filed 10-13-00; 8:45 am]

BILLING CODE 6718-02-P